DEPARTMENT OF DEFENSE

Office of the Secretary

[Docket ID DOD-2011-OS-0128]

Proposed Collection; Comment Request

AGENCY: Department of Defense, Office of the Under Secretary of Defense for Acquisition, Technology, and Logistics, Office of the Deputy Under Secretary of Defense for Installations and Environment, Office of Economic Adjustment (OEA).

ACTION: Notice.

SUMMARY: In compliance with Section 3506(c)(2)(A) of the Paperwork Reduction Act of 1995, OEA announces a new proposed collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, through the use of automated collection techniques and other forms of information technology.

DATES: Consideration will be given to all comments received by January 17, 2012.

ADDRESSES: You may submit comments, identified by docket number and title, by any of the following methods:

• Federal eRulemaking Portal: http://www.regulations.gov. Follow the instructions for submitting comments.

• Mail: Federal Docket Management System Office, 4800 Mark Center Drive, 2nd Floor, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request further information on this proposed collection, or to obtain a copy of the associated program announcement, please write to the Office of Economic Adjustment, ATTN: Mr. David F. Witschi, OEA Associate Director, 400 Army Navy Drive, Suite 200, Arlington, VA 22202-2884, or call Mr. David Witschi at (703) 604-6020.

Title, Associated Form, and OMB Number: Application Information—Public Schools on Military Installations; OMB Control Number 0790-TBD.

Needs and Uses: This is a request for information to qualify for non-competitive funds. OEA is authorized to provide up to $250 million “to make grants, conclude cooperative agreements, or supplement other Federal funds to construct, renovate, repair, or expand elementary and secondary public schools on military installations in order to address capacity or facility condition deficiencies at such schools.” Local Education Agencies (LEAs) representing the schools with the most serious capacity and facility condition deficiencies will be invited to submit a request for funding. Only LEAs that operate a public school on a military installation, and receive a written invitation from OEA, may request funds under this program. LEAs that are invited to apply will be asked by OEA to submit a project proposal within 90 days using the Application for Federal Assistance Standard Form 424 (OMB Number: 4040-0004). Proposal information listed in the September 9, 2011 Federal Register notice (76 FR 55883-55886) will supplement the application and assist OEA in determining compliance with legal and programmatic requirements. Grant awards will be made to successful applicants until the available funds are exhausted.

Affected Public: Local Education Agencies.

Annual Burden Hours: 330.

Number of Annual Respondents: 15.

Annual Responses to Respondent: 1.

Average Burden per Response: 22 hours.

Frequency: On occasion.

SUPPLEMENTARY INFORMATION:

The Secretary of Defense is authorized by Section 8109 of Public Law 112-10, the Department of Defense and Full-Year Continuing Appropriations Act, 2011, and is choosing to act through OEA, to provide up to $250 million “to make grants, conclude cooperative agreements, or supplement other Federal funds to construct, renovate, repair, or expand elementary and secondary public schools on military installations in order to address capacity or facility condition deficiencies at such schools: Provided further, that in making such funds available, OEA shall give priority consideration to those military installations with schools having the most serious capacity or facility condition deficiencies as determined by the Secretary of Defense.” OEA is establishing a one-time non-competitive program, as described in the September 9, 2011 Federal Register notice (76 FR 55883-55886), to administer this appropriation. In the event subsequent funding is made available, the program will be extended and additional applicants will be invited to participate.

Dated: November 15, 2011.
Aaron Siegel,
Alternate OSD Federal Register Liaison Officer, Department of Defense.

[FR Doc. 2011-29816 Filed 11-17-11; 8:45 am]

BILLING CODE 5001-06-P